DEPARTMENT OF ENERGY

Federal Energy Regulatory Commission

[Project No. 6240-063]

Notice of Intent To File License Application, Filing of Pre-Application Document, and Approving Use of the Traditional Licensing Process: Watson Associates

a. Type of Filing: Notice of Intent to File License Application and Request to Use the Traditional Licensing Process.

b. Project No.: 6240-063.

c. Date Filed: August 27, 2018.

d. Submitted By: Watson Associates.

e. Name of Project: Watson Dam Project.

f. Location: On the Cocheco River in Dover, Strafford County, New Hampshire. No federal lands are occupied by the project works or located within the project boundary.

g. Filed Pursuant to: 18 CFR 5.3 and 5.5 of the Commission's regulations.

h. Potential Applicant Contact: John Webster, Watson Associates, P.O. Box 178, 10 Butler Street, South Berwick, Maine 03908; Phone at (207) 384-5334, or email at Hydromagnt@gwi.net.

i. FERC Contact: Amy Chang at (202) 502-8250; or amy.chang@ferc.gov.

j. Watson Associates filed its request to use the Traditional Licensing Process on August 27, 2018, and provided public notice of the request on September 19, 2018. In a letter dated October 26, 2018, the Director of the Division of Hydropower Licensing approved Watson Associates' request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New Hampshire State Historic Preservation Officer, as required by section 106 of the National Historic Preservation Act, and the implementing regulations of the Advisory Council on Historic Preservation at 36 CFR 800.2.

l. With this notice, we are designating Watson Associates as the Commission's non-federal representative for carrying out informal consultation pursuant to section 7 of the Endangered Species Act; and consultation pursuant to section 106 of the National Historic Preservation Act.

m. Watson Associates filed a Pre-Application Document (PAD; including a proposed process plan and schedule) with the Commission on August 27, 2018, pursuant to 18 CFR 5.6 of the Commission's regulations. Watson Associates filed a revised PAD with the Commission on October 11, 2018.

n. A copy of the PAD is available for review at the Commission in the Public Reference Room or may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a subsequent license for Project No. 6240. Pursuant to 18 CFR 16.20, each application for a subsequent license and any competing license applications must be filed with the Commission at least 24 months prior to the expiration of the existing license. All applications for license for this project must be filed by August 31, 2021.

p. Register online at http://www.ferc.gov/docs-filing/esubscription.asp to be notified via email of new filings and issuances related to this or other pending projects. For assistance, contact FERC Online Support.

Dated: October 26, 2018.
Kimberly D. Bose,
Secretary.

[FR Doc. 2018-23996 Filed 11-1-18; 8:45 am]

BILLING CODE 6717-01-P